DEPARTMENT OF COMMERCE

National Oceanic and Atmospheric Administration

50 CFR Part 679

[Docket No. 061130318-6318-01; I.D. 112706A]

Fisheries of the Exclusive Economic Zone Off Alaska; Bering Sea and Aleutian Islands; 2007 and 2008 Proposed Harvest Specifications for Groundfish

AGENCY: National Marine Fisheries Service (NMFS), National Oceanic and Atmospheric Administration (NOAA), Commerce.

ACTION: Proposed rule; request for comments.

SUMMARY: NMFS proposes 2007 and 2008 harvest specifications and prohibited species catch (PSC) allowances for the groundfish fishery of the Bering Sea and Aleutian Islands management area (BSAI). This action is necessary to establish harvest limits for groundfish during the 2007 and 2008 fishing years and to accomplish the goals and objectives of the Fishery Management Plan for Groundfish of the Bering Sea and Aleutian Islands Management Area (FMP). The intended effect of this action is to conserve and manage the groundfish resources in the BSAI in accordance with the Magnuson-Stevens Fishery Conservation and Management Act (MSA).

DATES: Comments must be received by January 16, 2007.

ADDRESSES: Send comments to Sue Salveson, Assistant Regional Administrator, Sustainable Fisheries Division, Alaska Region, NMFS, Attn: Ellen Walsh. Comments may be submitted by:

• Mail to P.O. Box 21668, Juneau, AK 99802;

• Hand delivery to the Federal Building, 709 West 9th Street, Room 420A, Juneau, AK;

• E-mail to 2007tacspecs@noaa.gov and include in the subject line the document identifier: 2007 Proposed Specifications (E-mail comments, with or without attachments, are limited to 5 megabytes);

• Fax to 907-586-7557; or

• Webform at the Federal eRulemaking Portal: http://www.regulations.gov. Follow the instructions at that site for submitting comments.

Copies of the Draft Environmental Impact Statement (DEIS) and the Initial Regulatory Flexibility Analysis (IRFA) prepared for this action are available from NMFS at the mailing addresses above or from the Alaska Region website at http://www.fakr.noaa.gov. Copies of the final 2005 Stock Assessment and Fishery Evaluation (SAFE) report for the groundfish resources of the BSAI, dated November 2005, are available from the North Pacific Fishery Management Council (Council), West 4th Avenue, Suite 306, Anchorage, AK 99510-2252, 907-271-2809, or from its website at http://www.fakr.noaa.gov/npfmc.

FOR FURTHER INFORMATION CONTACT: Mary Furuness, 907-586-7228, or e-mail at mary.furuness@noaa.gov.

SUPPLEMENTARY INFORMATION: Federal regulations at 50 CFR part 679 implement the FMP and govern the groundfish fisheries in the BSAI. The Council prepared the FMP and NMFS approved it under the MSA. General regulations governing U.S. fisheries also appear at 50 CFR part 600.

The FMP and its implementing regulations require NMFS, after consultation with the Council, to specify annually the total allowable catch (TAC) for each target species and the “other species” category, the sum of which must be within the optimum yield range of 1.4 million to 2.0 million metric tons (mt) (see § 679.20(a)(1)(i)). Regulations at § 679.20(c)(1) further require NMFS to publish proposed harvest specifications in the Federal Register and solicit public comment on proposed annual TACs and apportionments thereof, PSC allowances and prohibited species quota (PSQ) reserves established by § 679.21, seasonal allowances of pollock, Pacific cod, and Atka mackerel TAC, and Community Development Quota (CDQ) reserve amounts established by § 679.20(b)(1)(iii). The proposed harvest specifications set forth in Tables 1 through 11 of this action satisfy these requirements.

Under § 679.20(c)(3), NMFS will publish the final harvest specifications for 2007 and 2008 after (1) considering comments received within the comment period (see DATES), (2) consulting with the Council at its December 2006 meeting, and (3) considering new information presented in the DEIS and the final 2006 SAFE reports prepared for the 2007 and 2008 groundfish fisheries.

Other Actions Potentially Affecting the 2007 and 2008 Harvest Specifications

The following paragraphs identify actions that are currently under consideration by the Council and that, if submitted to and approved by the Secretary of Commerce (Secretary), could change the 2007 and 2008 final harvest specifications. The existing 2007 harvest specifications will be updated in early 2007 when final harvest specifications for 2007 and new harvest specifications for 2008 are implemented.

In April 2006, the Council adopted Amendment 85 to the FMP. Amendment 85 would revise the BSAI Pacific cod sector allocations. If approved by the Secretary, final regulations implementing Amendment 85 are anticipated to be effective for the 2008 fishing year. In June 2006, the Council adopted Amendment 80 to the FMP. Amendment 80 would provide specific groundfish allocations to the non-American Fisheries Act (AFA) trawl catcher/processor sector and allow the formation of cooperatives. If approved by the Secretary, final regulations implementing Amendment 80 also are anticipated to be effective for the 2008 fishing year. The Council also adopted Amendment 84 that would modify current regulations for managing incidental catch of Chinook and chum salmon and may change the PSC limits. The Council also is considering two proposals. One would allocate the Pacific cod TAC by Bering Sea subarea and Aleutian Islands (AI) subarea instead of a combined BSAI TAC. The other would separate some species from the “other rockfish” or “other species” categories so individual overfishing levels (OFLs), acceptable biological catch (ABCs), and TACs may be established.

Proposed ABC and TAC Harvest Specifications

The proposed ABC levels are based on the best available biological information, including projected biomass trends, information on assumed distribution of stock biomass, and revised technical methods used to calculate stock biomass. In general, the development of ABCs and OFLs involves sophisticated statistical analyses of fish populations and is based on a successive series of six levels, or tiers, of reliable information available to fishery scientists. Tier one represents the highest level of data quality available while tier six represents the lowest level of data quality available.

Appendix A to the final SAFE report for the 2005 BSAI groundfish fisheries dated November 2005 (see ADDRESSES) sets forth the best information currently available. Information on the status of stocks will be updated, including the 2006 survey results, and considered by the Plan Team in November 2006 for the 2006 SAFE report. The 2007 and 2008 final harvest specifications will be based on the 2006 SAFE report.

In October 2006, the Scientific and Statistical Committee (SSC), Advisory Panel, and the Council reviewed the Plan Team's preliminary projections as the basis for the 2007 and 2008 proposed ABC, OFL, and TAC amounts. The SSC concurred with the Plan Team's recommendations. For stocks in tiers 1-3, the Plan Team used 2006 estimated fishing mortality rates in stock projection models to estimate OFLs and ABCs for 2007. For Bering Sea pollock, the projection model used a tier 3 model, but the projection used in December 2005 (as recommended by the SSC) used a tier 1 model. The SSC recommended that in the future projections should use the same approach that is approved by the Council in December of the previous year. The public should be aware that a tier 1 projection model may be used in December 2006 for Bering Sea pollock for ABC and OFL amounts. The Plan Team estimated 2007 TACs based on ABC constraints and past Council actions. The Plan Team estimated 2007 TACs were treated as the projected 2007 fishing mortality rates to derive estimates of OFLs and ABCs for 2008. For stocks in tiers 4-6, for which there are no population projection models, the Plan Team used the OFL and ABC amounts from 2006 for 2007 and 2008.

The Council adopted the OFL and ABC amounts recommended by the SSC (Table 1). The Council recommended that all the 2007 proposed TAC amounts be set equal to the ABC amounts except for reduced TAC amounts for AI subarea and Bogoslof pollock, Pacific cod, Alaska plaice, arrowtooth flounder, rock sole, flathead sole, “other flatfish,” northern rockfish, Atka mackerel, squid, and “other species.” The Council recommended that all the 2008 proposed TAC amounts be set equal to the ABC amounts except for TAC decreases for AI subarea and Bogoslof pollock, Pacific cod, sablefish, Alaska plaice, northern rockfish, and “other species.” As in previous years, the Plan Team, Advisory Panel, SSC, and Council recommended that total removals of Pacific cod from the BSAI not exceed ABC recommendations. Accordingly, the Council recommended that the 2007 and 2008 Pacific cod TACs be adjusted downward from the ABCs by amounts equal to 3 percent of the ABC. This adjustment is necessary to account for the guideline harvest level (GHL) established for Pacific cod by the State of Alaska (State) for a State-managed fishery that occurs in State waters in the AI subarea. Finally, the Council recommended using the 2006 and 2007 PSC allowances for the 2007 and 2008 proposed PSC allowances. The Council will reconsider the OFL, ABC, TAC, and PSC amounts in December 2006 after the Plan Team incorporates new status of groundfish stocks information into a final 2006 SAFE report for the 2007 and 2008 BSAI groundfish fishery. None of the Council's recommended proposed TACs for 2007 or 2008 exceeds the recommended 2007 or 2008 proposed ABC for any species category. NMFS finds the Council's recommended 2007 and 2008 proposed OFL, ABC, and TAC amounts consistent with the best available information on the biological condition of the groundfish stocks.

On July 11, 2006, the President signed the Coast Guard and Maritime Transportation Act of 2006 (Coast Guard Act). Section 416(a) of the Coast Guard Act revises section 305(i)(1) of the MSA (16 U.S.C. 1855(i)(1)) by replacing all of the existing language in this section with new language. New section 305(i)(1)(B)(i) of the MSA addresses allocations to the CDQ Program. It requires that “the annual percentage of the total allowable catch, guideline harvest level, or other annual catch limit allocated to the program in each directed fishery of the Bering Sea and Aleutian Islands shall be the percentage approved by the Secretary, or established by Federal law, as of March 1, 2006, for the program.”

Prior to these amendments, section 305(i)(1)(A) of the MSA stated that “a percentage of the total allowable catch of any Bering Sea fishery is allocated to the program.” Since 1998, NMFS has allocated to the CDQ Program a percentage of each groundfish TAC category, except squid. The allocation of squid to the CDQ Program was discontinued in 2001 under Amendment 66 to the FMP (45 FR 13672, March 7, 2001).

As a result of the changes to section 305(i)(1), the MSA requires apportionments to the CDQ reserves of those directed fishery TAC categories for which a percentage was approved by the Secretary or established by Federal law as of March 1, 2006. In 2006, the only TAC category for which a percentage was not approved or established for the CDQ Program was squid. Therefore, squid would continue to not be allocated to the CDQ Program. For the TAC categories other than squid, those that did not have a directed fishery in the BSAI in 2006 were Bogoslof pollock, trawl sablefish, Bering Sea Pacific ocean perch, northern rockfish, shortraker rockfish, rougheye rockfish, “other rockfish,” and “other species.” Therefore, based on NMFS' interpretation of the MSA, apportionments from these TAC categories to the CDQ Program will no longer be made. Catch in the CDQ fisheries of species in TAC categories that are not allocated to the CDQ Program will be managed under the regulations and fishery status that applies to the TAC category in the non-CDQ groundfish fisheries. Retention of species closed to directed fishing would either be limited to maximum retainable amounts or all catch of the species would be required to be discarded. Notices of closures to directed fishing and retention requirements for these species would apply to the CDQ and non-CDQ sectors. The catch of these species in the CDQ fisheries would not constrain the catch of other CDQ species unless catch by all sectors approached an OFL.

Table 1 lists the 2007 and 2008 proposed OFL, ABC, TAC, initial TAC (ITAC), and CDQ amounts for groundfish in the BSAI. The proposed apportionment of TAC amounts among fisheries and seasons is discussed below.

TABLE 1 - 2007 AND 2008 PROPOSED OVERFISHING LEVEL (OFL), ACCEPTABLE BIOLOGICAL CATCH (ABC), TOTAL ALLOWABLE CATCH (TAC), INITIAL TAC (ITAC), AND CDQ RESERVE ALLOCATION OF GROUNDFISH IN THE BSAI¹
[Amounts are in metric tons]
Species | Area | 2007: OFL | 2007: ABC | 2007: TAC | 2007: ITAC² | 2007: CDQ³ | 2008: OFL | 2008: ABC | 2008: TAC | 2008: ITAC² | 2008: CDQ³
Pollock⁴ | BS² | 1,707,000 | 1,419,800 | 1,419,800 | 1,277,820 | 141,980 | 1,418,100 | 1,168,700 | 1,168,700 | 1,051,830 | 116,870
| AI² | 39,100 | 29,400 | 19,000 | 17,100 | 1,900 | 39,100 | 29,400 | 19,000 | 17,100 | 1,900
| Bogoslof | 50,600 | 5,500 | 10 | 10 | 0 | 50,600 | 5,500 | 10 | 10 | 0
Pacific cod | BSAI | 176,100 | 148,500 | 144,045 | 122,438 | 10,803 | 144,900 | 121,700 | 118,049 | 100,342 | 8,854
Sablefish⁵ | BS | 3,080 | 2,580 | 2,580 | 1,097 | 258 | 2,680 | 2,240 | 2,240 | 952 | n/a
| AI | 3,120 | 2,620 | 2,620 | 557 | 393 | 2,720 | 2,260 | 2,260 | 480 | n/a
Atka mackerel | BSAI | 107,300 | 90,900 | 63,000 | 53,550 | 4,725 | 75,200 | 65,100 | 65,100 | 55,335 | 4,883
| WAI | n/a | 34,182 | 16,782 | 14,265 | 1,259 | n/a | 24,481 | 24,481 | 20,809 | 1,836
| CAI | n/a | 38,718 | 38,718 | 32,910 | 2,904 | n/a | 27,728 | 27,728 | 23,569 | 2,080
| EAI/BS | n/a | 18,000 | 7,500 | 6,375 | 563 | n/a | 12,891 | 12,891 | 10,957 | 967
Yellowfin sole | BSAI | 138,900 | 117,100 | 117,100 | 99,535 | 8,783 | 126,200 | 106,400 | 106,400 | 90,440 | 7,980
Rock sole | BSAI | 146,000 | 122,500 | 85,736 | 72,876 | 6,430 | 133,100 | 111,600 | 111,600 | 94,860 | 8,370
Greenland turbot | BSAI | 18,300 | 2,630 | 2,630 | 2,236 | 197 | 17,500 | 2,630 | 2,630 | 2,236 | 197
| BS | n/a | 1,815 | 1,815 | 1,543 | 136 | n/a | 1,815 | 1,815 | 1,543 | 136
| AI | n/a | 815 | 815 | 693 | 61 | n/a | 815 | 815 | 693 | 61
Arrowtooth flounder | BSAI | 172,200 | 140,500 | 20,000 | 17,000 | 1,500 | 177,400 | 144,800 | 144,800 | 123,080 | 10,860
Flathead sole | BSAI | 67,100 | 55,900 | 22,000 | 18,700 | 1,650 | 62,700 | 52,200 | 52,200 | 44,370 | 3,915
Other flatfish⁶ | BSAI | 24,200 | 18,100 | 5,000 | 4,250 | 375 | 24,200 | 18,100 | 18,100 | 15,385 | 1,358
Alaska plaice | BSAI | 227,100 | 180,200 | 32,000 | 27,200 | 2,400 | 218,400 | 173,200 | 129,637 | 110,191 | 9,723
Pacific ocean perch | BSAI | 17,900 | 15,100 | 15,100 | 12,835 | n/a | 17,900 | 15,100 | 15,100 | 12,835 | n/a
| BS | n/a | 3,020 | 3,020 | 2,567 | 0 | n/a | 3,020 | 3,020 | 2,567 | 0
| WAI | n/a | 5,481 | 5,481 | 4,659 | 411 | n/a | 5,481 | 5,481 | 4,659 | 411
| CAI | n/a | 3,277 | 3,277 | 2,785 | 246 | n/a | 3,277 | 3,277 | 2,785 | 246
| EAI | n/a | 3,322 | 3,322 | 2,824 | 249 | n/a | 3,322 | 3,322 | 2,824 | 249
Northern rockfish | BSAI | 10,100 | 8,500 | 5,000 | 4,250 | 0 | 10,000 | 8,500 | 5,000 | 4,250 | 0
Shortraker rockfish | BSAI | 774 | 580 | 580 | 493 | 0 | 774 | 580 | 580 | 493 | 0
Rougheye rockfish | BSAI | 299 | 224 | 224 | 190 | 0 | 299 | 224 | 224 | 190 | 0
Other rockfish⁷ | BS | 1,122 | 810 | 810 | 689 | 0 | 1,122 | 810 | 810 | 689 | 0
| AI | 748 | 590 | 590 | 502 | 0 | 748 | 590 | 590 | 502 | 0
Squid | BSAI | 2,620 | 1,970 | 1,275 | 1,084 | 0 | 2,620 | 1,970 | 1,970 | 1,675 | 0
Other species⁸ | BSAI | 89,404 | 62,950 | 40,900 | 34,765 | 0 | 89,404 | 62,950 | 35,000 | 29,750 | 0
TOTAL | 3,003,067 | 2,426,954 | 2,000,000 | 1,769,177 | 182,301 | 2,615,667 | 2,094,554 | 2,000,000 | 1,756,995 | 175,816
¹ These amounts apply to the entire BSAI management area unless otherwise specified. With the exception of pollock, and for the purpose of these harvest specifications, the Bering Sea (BS) subarea includes the Bogoslof District.
² Except for pollock and the portion of the sablefish TAC allocated to hook-and-line gear, 15 percent of each TAC is placed in a reserve. The ITAC for each species is the remainder of the TAC after the subtraction of these reserves.
³ Except for Bering Sea Pacific ocean perch, northern rockfish, shortraker rockfish, rougheye rockfish, ″other rockfish,″ squid, ″other species,″ and the trawl gear allocation of sablefish one half of the amount of the TACs placed in reserve, or 7.5 percent of the TACs, is designated as a CDQ reserve for use by CDQ participants (see §§ 679.20(b)(1)(iii) and 679.31).
⁴ Under § 679.20(a)(5)(i)(A)(1), the annual Bering Sea subarea pollock TAC after subtraction for the CDQ directed fishing allowance (10 percent) and the incidental catch allowance (3.35 percent), is further allocated by sector for a directed pollock fishery as follows: inshore - 50 percent; catcher/processor - 40 percent; and motherships - 10 percent. Under § 679.20(a)(5)(iii)(B)(2)(i) and (ii), the annual Aleutian Islands subarea pollock TAC, after subtracting first for the CDQ directed fishing allowance (10 percent) and second for the incidental catch allowance (1,600 mt), is allocated to the Aleut Corporation for a directed pollock fishery.
⁵ The ITAC for sablefish reflected in Table 1 is for trawl gear only. Regulations at § 679.20(b)(1) do not provide for the establishment of an ITAC for the hook-and-line and pot gear allocation for sablefish. Twenty percent of the sablefish TAC allocated to hook-and-line gear or pot gear is reserved for use by CDQ participants (see § 679.20(b)(1)(iii)(B)).
⁶ ″Other flatfish″ includes all flatfish species, except for halibut (a prohibited species), flathead sole, Greenland turbot, rock sole, yellowfin sole, arrowtooth flounder, and Alaska plaice.
⁷ ″Other rockfish″ includes all Sebastes and Sebastolobus species except for Pacific ocean perch, northern, shortraker, and rougheye rockfish.
⁸ ″Other species″ includes sculpins, sharks, skates and octopus. Forage fish, as defined at § 679.2, are not included in the ″other species″category.

Reserves and the Incidental Catch Allowance (ICA) for Pollock

Section 679.20(b)(1)(i) of the CFR requires placement of 15 percent of the TAC for each target species or species group, except for pollock and the hook-and-line and pot gear allocation of sablefish, in a non-specified reserve. Section 679.20(b)(1)(iii)(A) of the CFR and section 305(i)(1)(B)(i) of the MSA further requires the allocation of one half of each TAC amount that is placed in the non-specified reserve (7.5 percent) be allocated to the groundfish CDQ reserve, with the exception of Bogoslof pollock, Bering Sea Pacific ocean perch, northern rockfish, shortraker rockfish, rougheye rockfish, “other rockfish,” squid, “other species,” and the trawl gear allocation of sablefish, as explained above. Section 679.20(b)(1)(iii)(B) requires 20 percent of the hook-and-line and pot gear allocation of sablefish be allocated to the fixed gear sablefish CDQ reserve. Sections 679.20(a)(5)(i)(A), 679.20(a)(5)(iii)(B)(2)(i), and 679.31(a) also require the allocation of 10 percent of the BSAI pollock TACs to the pollock CDQ directed fishing allowance. The entire Bogoslof District pollock TAC is allocated as an ICA (see § 679.20(a)(5)(ii)). With the exception of the hook-and-line and pot gear sablefish CDQ reserve, the regulations do not further apportion the CDQ reserves by gear. Section 679.21(e)(1)(i) requires withholding of 7.5 percent of each PSC limit, with the exception of herring, as a PSQ reserve for the CDQ fisheries. Sections 679.30 and 679.31 set forth the regulations governing the management of the CDQ and PSQ reserves.

Pursuant to § 679.20(a)(5)(i)(A)(1), NMFS proposes a pollock ICA of 3.35 percent of the Bering Sea pollock TAC after subtraction of the 10 percent CDQ reserve. This allowance is based on NMFS' examination of the pollock incidental catch, including the incidental catch by CDQ vessels, in target fisheries other than pollock from 1999 through 2005. During this 7-year period, the incidental catch of pollock ranged from a low of 2.7 percent in 2003 to a high of 5 percent in 1999, with a 7-year average of 3.5 percent. Because these incidental percentages are contingent on the relative amounts of other groundfish TACs, NMFS will be better able to assess the ICA amount when the Council makes final ABC and TAC amount recommendations in December. Pursuant to § 679.20(a)(5)(iii)(B)(2)(i) and (ii), NMFS proposes a pollock ICA of 1,600 mt for the AI subarea pollock after subtraction of the 10 percent CDQ directed fishing allowance. This allowance is based on NMFS' examination of the pollock incidental catch, including the incidental catch by CDQ vessels, in target fisheries other than pollock from 2003 through 2005. During this 3-year period, the incidental catch of pollock ranged from a low of 8 percent in 2005 to a high of 10 percent in 2003, with a 3-year average of 8 percent.

The regulations do not designate the remainder of the non-specified reserve by species or species group, and any amount of the reserve may be reapportioned to a target species or the “other species” category during the year, providing that such reapportionments do not result in overfishing (see § 679.20(b)(1)(ii)).

Allocations of Pollock TAC Under the AFA

Section 679.20(a)(5)(i)(A) requires that the pollock TAC apportioned to the Bering Sea subarea, after subtraction of 10 percent for the CDQ program and 3.35 percent for the ICA, be allocated as a directed fishing allowance (DFA) as follows: 50 percent to the inshore sector, 40 percent to the catcher/processor sector, and 10 percent to the mothership sector. In the Bering Sea subarea, 40 percent of the DFA is allocated to the A season (January 20-June 10) and 60 percent of the DFA is allocated to the B season (June 10-November 1). In October 2006, the State's Board of Fish adopted a proposal for a 3,000 mt pollock fishery in State waters of the AI subarea. However, this action by the State does not require a downward adjustment of the federal AI subarea pollock TAC because the combined TAC and GHL (22,000 mt) are less than the proposed ABC of 29,400 mt. The AI directed pollock fishery allocation to the Aleut Corporation is the amount of pollock remaining in the AI subarea after subtracting 1,900 mt for the CDQ DFA (10 percent) and 1,600 mt for the ICA. In the AI subarea, 40 percent of the ABC is allocated to the A season and the remainder of the directed pollock fishery is allocated to the B season. Table 2 lists these 2007 and 2008 proposed amounts.

Section 679.20(a)(5)(i)(A)(4) also includes several specific requirements regarding pollock allocations. First, 8.5 percent of the pollock allocated to the catcher/processor sector will be available for harvest by AFA catcher vessels with catcher/processor sector endorsements, unless the Regional Administrator receives a cooperative contract that provides for the distribution of harvest among AFA catcher/processors and AFA catcher vessels in a manner agreed to by all members. Second, AFA catcher/processors not listed in the AFA are limited to harvesting not more than 0.5 percent of the pollock allocated to the catcher/processor sector. Table 2 lists the 2007 and 2008 proposed allocations of pollock TAC. Tables 8 through 11 list the AFA catcher/processor and catcher vessel harvesting sideboard limits. In past years, the proposed harvest specifications included text and tables describing pollock allocations to the Bering Sea subarea inshore pollock cooperatives and open access sector. These allocations are based on the submission of AFA inshore cooperative applications due to NMFS on December 1 of each calendar year. Because AFA inshore cooperative applications for 2007 have not been submitted to NMFS, thereby preventing NMFS from calculating 2007 allocations, NMFS has not included inshore cooperative text and tables in these proposed harvest specifications. NMFS will post AFA inshore cooperative allocations on the Alaska Region website at http://www.fakr.noaa.gov when they become available in December 2006.

Table 2 also lists proposed seasonal apportionments of pollock and harvest limits within the Steller Sea Lion Conservation Area (SCA). The harvest of pollock within the SCA, as defined at § 679.22(a)(7)(vii), is limited to 28 percent of the DFA until April 1. The remaining 12 percent of the 40 percent of the annual DFA allocated to the A season may be taken outside the SCA before April 1 or inside the SCA after April 1. If less than 28 percent of the annual DFA is taken inside the SCA before April 1, the remainder will be available to be taken inside the SCA after April 1. The A season pollock SCA harvest limit will be apportioned to each sector in proportion to each sector's allocated percentage of the DFA. Table 2 lists by sector these 2007 and 2008 proposed amounts.

TABLE 2 - 2007 AND 2008 PROPOSED ALLOCATIONS OF POLLOCK TACS TO THE DIRECTED POLLOCK FISHERIES AND TO THE CDQ DIRECTED FISHING ALLOWANCES (DFA)¹
[Amounts are in metric tons]
Area and sector | 2007 allocations | 2007 A season¹: A season DFA | 2007 A season¹: SCA harvest limit² | 2007 B season¹: B season DFA | 2008 allocations | 2008 A season¹: A season DFA | 2008 A season¹: SCA harvest limit² | 2008 B season: B season DFA
Bering Sea subarea | 1,419,800 | n/a | n/a | n/a | 1,168,700 | n/a | n/a | n/a
CDQ DFA | 141,980 | 56,792 | 39,754 | 85,188 | 116,870 | 46,748 | 32,724 | 70,122
ICA¹ | 44,724 | n/a | n/a | n/a | 36,814 | n/a | n/a | n/a
AFA Inshore | 616,548 | 246,619 | 172,633 | 369,929 | 507,508 | 203,003 | 142,102 | 304,505
AFA Catcher/Processors³ | 493,239 | 197,295 | 138,107 | 295,943 | 406,006 | 162,403 | 113,682 | 243,604
Catch by C/Ps | 451,313 | 180,525 | n/a | 270,788 | 371,496 | 148,598 | n/a | 222,898
Catch by CVs³ | 41,925 | 16,770 | n/a | 25,155 | 34,511 | 13,804 | n/a | 20,706
Unlisted C/P Limit⁴ | 2,466 | 986 | n/a | 1,480 | 2,030 | 812 | n/a | 1,218
AFA Motherships | 123,310 | 49,324 | 34,527 | 73,986 | 101,502 | 40,601 | 28,420 | 60,901
Excessive Harvesting Limit⁵ | 215,792 | n/a | n/a | n/a | 177,628 | n/a | n/a | n/a
Excessive Processing Limit⁶ | 369,929 | n/a | n/a | n/a | 304,505 | n/a | n/a | n/a
Total Bering Sea DFA | 1,419,800 | 550,031 | 385,021 | 825,046 | 1,168,700 | 452,754 | 316,928 | 679,132
Aleutian Islands subarea¹ | 19,000 | n/a | n/a | n/a | 19,000 | n/a | n/a | n/a
CDQ DFA | 1,900 | 760 | n/a | 1,140 | 1,900 | 760 | n/a | 1,140
ICA | 1,600 | 800 | n/a | 800 | 1,600 | 800 | n/a | 800
Aleut Corporation | 15,500 | 10,200 | n/a | 5,300 | 15,300 | 10,500 | n/a | 5,300
Bogoslof District ICA⁷ | 10 | n/a | n/a | n/a | 11 | n/a | n/a | n/a
¹ Pursuant to § 679.20(a)(5)(i)(A), the annual Bering Sea subarea pollock TAC, after subtraction for the CDQ DFA (10 percent) and the ICA (3.35 percent), is allocated as a DFA as follows: inshore component - 50 percent, catcher/processor component - 40 percent, and mothership component - 10 percent. In the Bering Sea subarea, 40 percent of the DFA is allocated to the A season (January 20 June 10) and 60 percent of the DFA is allocated to the B season (June 10 November 1). Pursuant to § 679.20(a)(5)(iii)(B)(2)(i) and (ii), the annual AI pollock TAC, after subtracting first for the CDQ DFA (10 percent) and second the ICA (1,600 mt), is allocated to the Aleut Corporation for a directed pollock fishery. In the AI subarea, the A season is allocated 40 percent of the ABC and the B season is allocated the remainder of the directed pollock fishery.
² In the Bering Sea subarea, no more than 28 percent of each sector's annual DFA may be taken from the SCA before April 1. The remaining 12 percent of the annual DFA allocated to the A season may be taken outside of the SCA before April 1 or inside the SCA after April 1. If 28 percent of the annual DFA is not taken inside the SCA before April 1, the remainder is available to be taken inside the SCA after April 1.
³ Pursuant to § 679.20(a)(5)(i)(A)(4), not less than 8.5 percent of the DFA allocated to listed catcher/processors shall be available for harvest only by eligible catcher vessels delivering to listed catcher/processors.
⁴ Pursuant to § 679.20(a)(5)(i)(A)(4)(iii), the AFA unlisted catcher/processors are limited to harvesting not more than 0.5 percent of the catcher/processors sector's allocation of pollock.
⁵ Pursuant to § 679.20(a)(5)(i)(A)(6) NMFS establishes an excessive harvesting share limit equal to 17.5 percent of the sum of the pollock DFAs not including CDQ.
⁶ Pursuant to § 679.20(a)(5)(i)(A)(7) NMFS establishes an excessive processing share limit equal to 30.0 percent of the sum of the pollock DFAs not including CDQ.
⁷ The Bogoslof District is closed by the proposed harvest specifications to directed fishing for pollock. The amounts specified are for incidental catch only, and are not apportioned by season or sector.

Allocation of the Atka Mackerel TAC

Pursuant to § 679.20(a)(8)(i), up to 2 percent of the Eastern Aleutian District and the Bering Sea subarea Atka mackerel ITAC may be allocated to jig gear. The amount of this allocation is determined annually by the Council based on several criteria, including the anticipated harvest capacity of the jig gear fleet. The Council recommended and NMFS proposes that 1 percent of the Atka mackerel ITAC in the Eastern Aleutian District and the Bering Sea subarea be allocated to jig gear in 2007 and 2008. Based on the proposed 2007 ITAC of 6,375 mt, the jig gear allocation would be 64 mt for 2007. Based on the proposed 2008 ITAC of 10,975 mt, the jig gear allocation would be 110 mt for 2008.

Section 679.20(a)(8)(ii)(A) apportions the Atka mackerel ITAC into two equal seasonal allowances. After subtraction of the jig gear allocation, the first allowance is made available for directed fishing from January 1 (January 20 for trawl gear) to April 15 (A season), and the second seasonal allowance is made available from September 1 to November 1 (B season; Table 3).

Pursuant to § 679.20(a)(8)(ii)(C)(1), the Regional Administrator proposes a harvest limit area (HLA) limit of no more than 60 percent of the seasonal TAC for the Western and Central Aleutian Districts. A lottery system is used for the HLA Atka mackerel directed fisheries to reduce the amount of daily catch in the HLA by about half and to disperse the fishery over two districts (see § 679.20(a)(8)(iii)).

TABLE 3 - 2007 AND 2008 PROPOSED SEASONAL AND SPATIAL ALLOWANCES, GEAR SHARES, AND CDQ RESERVE OF THE BSAI ATKA MACKEREL TAC¹
[Amounts are in metric tons]
Subarea and component | 2007 TAC | 2007 CDQ reserve | 2007 CDQ reserve HLA limit⁴ | 2007 ITAC | 2007 Seasonal allowances²: A season³: Total | 2007 Seasonal allowances²: A season³: HLA limit⁴ | 2007 Seasonal allowances²: B season³: Total | 2007 Seasonal allowances²: B season³: HLA limit⁴
Western Aleutian District | 16,782 | 1,259 | 755 | 14,265 | 7,132 | 4,279 | 7,132 | 4,279
Central Aleutian District | 38,718 | 2,904 | 1,742 | 32,910 | 16,455 | 9,873 | 16,455 | 9,873
EAI/BS subarea⁵ | 7,500 | 563 | n/a | 6,375 | n/a | n/a | n/a | n/a
Jig (1%)⁶ | n/a | n/a | n/a | 64 | n/a | n/a | n/a | n/a
Other gear (99%) | n/a | n/a | n/a | 6,311 | 3,156 | n/a | 3,156 | n/a
Total | 63,000 | 4,726 | n/a | 53,550 | 26,743 | n/a | 26,743 | n/a

Subarea and component | 2008 TAC | 2008 CDQ reserve | 2008 CDQ reserve HLA limit⁴ | 2008 ITAC | 2008 Seasonal allowances²: A season³: Total | 2008 Seasonal allowances²: A season³: HLA limit⁴ | 2008 Seasonal allowances²: B season³: Total | 2008 Seasonal allowances²: B season³: HLA limit⁴
Western Aleutian District | 24,481 | 1,836 | 1,102 | 20,809 | 10,404 | 6,243 | 10,404 | 6,243
Central Aleutian District | 27,728 | 2,080 | 1,248 | 23,569 | 11,784 | 7,071 | 11,784 | 7,071
EAI/BS subarea⁵ | 12,891 | 967 | n/a | 10,957 | n/a | n/a | n/a | n/a
Jig (1%)⁶ | n/a | n/a | n/a | 110 | n/a | n/a | n/a | n/a
Other gear (99%) | n/a | n/a | n/a | 10,848 | 5,424 | n/a | 5,424 | n/a
Total | 65,100 | 4,883 | n/a | 55,335 | 27,612 | n/a | 27,612 | n/a
¹ Regulations at §§ 679.20(a)(8)(ii) and 679.22(a) establish temporal and spatial limitations for the Atka mackerel fishery.
² The seasonal allowances of Atka mackerel are 50 percent in the A season and 50 percent in the B season.
³ The A season is January 1 (January 20 for trawl gear) to April 15 and the B season is September 1 to November 1.
⁴ Harvest Limit Area (HLA) limit refers to the amount of each seasonal allowance that is available for fishing inside the HLA (see § 679.2). In 2007 and 2008, 60 percent of each seasonal allowance is available for fishing inside the HLA in the Western and Central Aleutian Districts.
⁵ Eastern Aleutian District and the Bering Sea subarea.
⁶ Regulations at § 679.20(a)(8)(i) require that up to 2 percent of the Eastern Aleutian District and the Bering Sea subarea ITAC be allocated to jig gear. The proposed amount of this allocation is 1 percent. The jig gear allocation is not apportioned by season.

Allocation of the Pacific Cod TAC

Pursuant to § 679.20(a)(7)(i)(A), 2 percent of the Pacific cod ITAC is allocated to vessels using jig gear, 51 percent to vessels using hook-and-line or pot gear, and 47 percent to vessels using trawl gear. Section 679.20(a)(7)(i)(B) further allocates the portion of the Pacific cod ITAC allocated to trawl gear as 50 percent to catcher vessels and 50 percent to catcher/processors. Section 679.20(a)(7)(i)(C)(1) sets aside a portion of the Pacific cod ITAC allocated to hook-and-line or pot gear as an ICA of Pacific cod in directed fisheries for groundfish using these gear types. The Regional Administrator proposes an ICA of 500 mt for 2007 and 2008 based on anticipated incidental catch in these fisheries. The remainder of the Pacific cod ITAC is further allocated to vessels using hook-and-line or pot gear as the following DFAs: 80 percent to hook-and-line catcher/processors, 0.3 percent to hook-and-line catcher vessels, 3.3 percent to pot catcher/processors, 15 percent to pot catcher vessels, and 1.4 percent to catcher vessels under 60 feet (18.3 m) length overall (LOA) using hook-and-line or pot gear.

Due to concerns about the potential impact of the Pacific cod fishery on Steller sea lions and their critical habitat, the Pacific cod ITAC is apportioned into seasonal allowances to disperse the Pacific cod fisheries over the fishing year (see §§ 679.20(a)(7)(iii)(A) and 679.23(e)(5)). For pot and most hook-and-line gear, the first seasonal allowance of 60 percent of the ITAC is made available for directed fishing from January 1 to June 10, and the second seasonal allowance of 40 percent of the ITAC is made available from June 10 (September 1 for pot gear) to December 31. No seasonal harvest constraints are imposed on the Pacific cod fishery by catcher vessels less than 60 feet (18.3 m) LOA using hook-and-line or pot gear. For trawl gear, the first season is January 20 to April 1 and is allocated 60 percent of the ITAC. The second season, April 1 to June 10, and the third season, June 10 to November 1, are each allocated 20 percent of the ITAC. The trawl catcher vessel allocation is further allocated as 70 percent in the first season, 10 percent in the second season, and 20 percent in the third season. The trawl catcher/processor allocation is allocated 50 percent in the first season, 30 percent in the second season, and 20 percent in the third season. For jig gear, the first and third seasonal allowances are each allocated 40 percent of the ITAC and the second seasonal allowance is allocated 20 percent of the ITAC. Table 4 lists the 2007 and 2008 proposed allocations and seasonal apportionments of the Pacific cod ITAC. In accordance with § 679.20(a)(7)(ii)(D) and (a)(7)(iii)(B), any unused portion of a seasonal Pacific cod allowance will become available at the beginning of the next seasonal allowance.

TABLE 4 - 2007 AND 2008 PROPOSED GEAR SHARES AND SEASONAL ALLOWANCES OF THE BSAI PACIFIC COD ITAC
[Amounts are in metric tons]
Gear sector | Percent | 2007 Share of gear sector total | 2007 Subtotal percentages for gear sectors | 2007 Share of gear sector total | 2007 Seasonal apportionment¹: Date | 2007 Seasonal apportionment¹: Amount | 2008 Share of gear sector total | 2008 Subtotal percentages for gear sectors | 2008 Share of gear sector total | 2008 Seasonal apportionment¹: Date | 2008 Seasonal apportionment¹: Amount
Total hook-and-line/pot gear | 51 | 73,463 | n/a | n/a | n/a | n/a | 60,205 | n/a | n/a | n/a | n/a
Hook-and-line/pot ICA | n/a | n/a | n/a | 500 | n/a | n/a | n/a | n/a | 500 | n/a | n/a
Hook-and-line/pot sub-total | n/a | 72,963 | n/a | n/a | n/a | n/a | 59,705 | n/a | n/a | n/a | n/a
Hook-and-line C/P | n/a | n/a | 80 | 58,370 | Jan 1-Jun 10 Jun 10-Dec 31 | 35,022 23,348 | n/a | 80 | 47,764 | Jan 1-Jun 10 Jun 10-Dec 31 | 28,658 19,106
Hook-and-line CV | n/a | n/a | 0.3 | 219 | Jan 1-Jun 10 Jun 10-Dec 31 | 131 88 | n/a | 0.3 | 179 | Jan 1-Jun 10 Jun 10-Dec 31 | 107 72
Pot C/P | n/a | n/a | 3.3 | 2,408 | Jan 1-Jun 10 Sept 1-Dec 31 | 1,445 963 | n/a | 3.3 | 1,970 | Jan 1-Jun 10 Sept 1-Dec 31 | 1,182 788
Pot CV | n/a | n/a | 15 | 10,944 | Jan 1-Jun 10 Sept 1-Dec 31 | 6,567 4,377 | n/a | 15 | 8,956 | Jan 1-Jun 10 Sept 1-Dec 31 | 5,373 3,582
CV < 60 feet LOA using Hook-and-line or Pot gear | n/a | n/a | 1.4 | 1,021 | n/a | n/a | n/a | 1.4 | 836 | n/a | n/a
Total Trawl Gear | 47 | 67,701 | n/a | n/a | n/a | n/a | 55,483 | n/a | n/a | n/a | n/a
Trawl CV |  |  | 50 | 33,851 | Jan 20-Apr 1 Apr 1-Jun 10 Jun 10-Nov 1 | 23,695 3,385 6,771 |  | 50 | 27,742 | Jan 20-Apr 1Apr 1-Jun 10 Jun 10-Nov 1 | 19,419 2,774 5,549
Trawl CP |  |  | 50 | 33,851 | Jan 20-Apr 1 Apr 1- Jun 10 Jun 10-Nov 1 | 16,925 10,155 6,771 |  | 50 | 27,742 | Jan 20-Apr 1 Apr 1- Jun 10 Jun 10-Nov 1 | 13,871 8,322 5,549
Jig | 2 | 2,881 | n/a | n/a | Jan 1-Apr 30 Apr 30-Aug 31 Aug 31-Dec 31 | 1,153 576 1,152 | 2,361 | n/a | n/a | Jan 1-Apr 30 Apr 30-Aug 31 Aug 31-Dec 31 | 945 472 944
Total | 100 | 144,045 | n/a | n/a | n/a | n/a | 118,049 | n/a | n/a | n/a | n/a
¹ For most non-trawl gear the first season is allocated 60 percent of the ITAC and the second season is allocated 40 percent of the ITAC. For jig gear, the first and third seasons are each allocated 40 percent of the ITAC and the second season is allocated 20 percent of the ITAC. No seasonal harvest constraints are imposed for the Pacific cod fishery by catcher vessels less than 60 feet (18.3 m) LOA using hook-and-line or pot gear. For trawl gear, the first season is allocated 60 percent of the ITAC and the second and third seasons are each allocated 20 percent of the ITAC. The trawl catcher vessels' allocation is further allocated as 70 percent in the first season, 10 percent in the second season and 20 percent in the third season. The trawl catcher/processors' allocation is allocated 50 percent in the first season, 30 percent in the second season and 20 percent in the third season. Any unused portion of a seasonal Pacific cod allowance will be reapportioned to the next seasonal allowance.

Sablefish Gear Allocation

Sections 679.20(a)(4)(iii) and (iv) require the allocation of sablefish TACs for the Bering Sea and AI subareas between trawl gear and hook-and-line or pot gear. Gear allocations of the TACs for the Bering Sea subarea are 50 percent for trawl gear and 50 percent for hook-and-line or pot gear and for the AI subarea are 25 percent for trawl gear and 75 percent for hook-and-line or pot gear. Section 679.20(b)(1)(iii)(B) requires apportionment of 20 percent of the hook-and-line and pot gear allocation of sablefish to the CDQ reserve. The Council recommended that only trawl sablefish TAC be established biennially. The harvest specifications for the hook-and-line gear and pot gear sablefish Individual Fishing Quota (IFQ) fisheries will be limited to the 2007 fishing year to ensure those fisheries are conducted concurrent with the halibut IFQ fishery. Concurrent sablefish and halibut IFQ fisheries would reduce the potential for discards of halibut and sablefish in those fisheries. The sablefish IFQ fisheries would remain closed at the beginning of each fishing year until the final harvest specifications for the sablefish IFQ fisheries are in effect. Table 5 lists the 2007 and 2008 proposed gear allocations of the sablefish TAC and CDQ reserve amounts.

TABLE 5 - 2007 AND 2008 PROPOSED GEAR SHARES AND CDQ RESERVE OF BSAI SABLEFISH TACS
[Amounts are in metric tons]
Subarea and gear | Percent of TAC | 2007 Share of TAC | 2007 ITAC¹ | 2007 CDQ reserve | 2008 Share of TAC | 2008 ITAC | 2008 CDQ reserve
Bering Sea Trawl Hook-and-line/pot gear² | 50 50 | 1,290 1,290 | 1,097 n/a | 0 258 | 1,120 n/a | 952 n/a | 0 n/a
TOTAL | 100 | 2,580 | 1,097 | 258 | 2,240 | 952 | 0
Aleutian Islands Trawl Hook-and-line/pot gear² | 25 75 | 655 1,965 | 557 n/a | 0 393 | 565 n/a | 480 n/a | 0 n/a
TOTAL | 100 | 2,620 | 557 | 393 | 2,260 | 480 | 0
¹ Except for the sablefish hook-and-line or pot gear allocation, 15 percent of TAC is apportioned to the reserve. The ITAC is the remainder of the TAC after the subtraction of these reserves.
² For the portion of the sablefish TAC allocated to vessels using hook-and-line or pot gear, 20 percent of the allocated TAC is reserved for use by CDQ participants. Regulations in § 679.20(b)(1) do not provide for the establishment of an ITAC for sablefish allocated to hook-and-line or pot gear.

Allocation of PSC Limits for Halibut, Crab, Salmon, and Herring

Section 679.21(e) sets forth the BSAI PSC limits. Pursuant to § 679.21(e)(1)(v) and (e)(2)(i) the BSAI halibut mortality limits are 3,675 mt for trawl fisheries and 900 mt for the non-trawl fisheries. Section 679.21(e)(1)(i) allocates 7.5 percent of these halibut mortality limits as the proposed PSQ reserve for use by the groundfish CDQ program. Section 679.21(e)(1)(vii) specifies 29,000 fish as the 2007 and 2008 proposed Chinook salmon PSC limit for the Bering Sea subarea pollock fishery. Section 679.21(e)(1)(i) allocates 7.5 percent, or 2,175 Chinook salmon, as the proposed PSQ for the CDQ program and allocates the remaining 26,825 Chinook salmon to the non-CDQ fisheries. Section 679.21(e)(1)(ix) specifies 700 fish as the 2007 and 2008 proposed Chinook salmon PSC limit for the AI subarea pollock fishery. Section 679.21(e)(1)(i) allocates 7.5 percent, or 53 Chinook salmon, as the proposed AI subarea PSQ for the CDQ program and allocates the remaining 647 Chinook salmon to the non-CDQ fisheries. Section 679.21(e)(1)(viii) specifies 42,000 fish as the 2007 and 2008 proposed non-Chinook salmon PSC limit. Section 679.21(e)(1)(i) allocates 7.5 percent, or 3,150 non-Chinook salmon, as the proposed PSQ for the CDQ program and allocates the remaining 38,850 non-Chinook salmon to the non-CDQ fisheries.

PSC limits for crab and herring are specified annually based on abundance and spawning biomass. Due to the lack of new information in October 2006 regarding PSC limits and apportionments, the Council recommended and NMFS proposes using the crab and herring 2006 and 2007 PSC limits and apportionments for the proposed 2007 and 2008 limits and apportionments. The Council will reconsider these amounts in December 2006, based on recommendations by the Plan Team and the SSC.

The red king crab mature female abundance is estimated from the 2004 survey data at 35.4 million crabs and the effective spawning biomass is estimated at 61.9 million pounds (28,077 mt). Based on the criteria set out at § 679.21(e)(1)(ii), the 2007 and 2008 proposed PSC limit of red king crab in Zone 1 for trawl gear is 197,000 animals. This limit results from the mature female abundance being above 8.4 million king crabs and of the effective spawning biomass estimate being greater than 55 million pounds (24,948 mt).

Section 679.21(e)(3)(ii)(B) establishes criteria under which NMFS must specify an annual red king crab bycatch limit for the Red King Crab Savings Subarea (RKCSS). The regulations limit the RKCSS to up to 35 percent of the trawl bycatch allowance specified for the rock sole/flathead sole/“other flatfish” fishery category based on the need to optimize the groundfish harvest relative to red king crab bycatch. The Council recommended, and NMFS proposes, a red king crab bycatch limit equal to 35 percent of the trawl bycatch allowance specified for the rock sole/flathead sole/“other flatfish” fishery category within the RKCSS.

Based on 2004 survey data, Tanner crab (Chionoecetes bairdi) abundance is estimated at 437.41 million crabs. Given the criteria set out at § 679.21(e)(1)(iii), the 2007 and 2008 proposed C. bairdi crab PSC limit for trawl gear is 980,000 animals in Zone 1 and 2,970,000 animals in Zone 2. These limits result from the C. bairdi crab abundance estimate of over 400 million crabs.

Pursuant to § 679.21(e)(1)(iv), the PSC limit for snow crab (C. opilio) is based on total abundance as indicated by the NMFS annual bottom trawl survey. The C. opilio crab PSC limit is set at 0.1133 percent of the Bering Sea abundance index. Based on the 2004 survey estimate of 4.421 billion crabs, the calculated limit is 5,008,993 animals. Pursuant to § 679.21(e)(1)(iv)(A), the 2007 and 2008 proposed C. opilio crab PSC limit is 4,858,993 animals (5,008,993 animals minus 150,000 animals).

Pursuant to § 679.21(e)(1)(i), 7.5 percent of each PSC limit specified for crab is allocated as a PSQ reserve for use by the groundfish CDQ program.

Pursuant to § 679.21(e)(1)(vi), the proposed PSC limit of Pacific herring caught while conducting any trawl operation for groundfish in the BSAI is 1 percent of the annual eastern Bering Sea herring biomass. The best estimate of 2006 and 2007 herring biomass is 201,180 mt. This amount was derived using 2005 survey data and an age-structured biomass projection model developed by the Alaska Department of Fish and Game. Therefore, the proposed herring PSC limit for 2007 and 2008 is 2,012 mt.

Section 679.21(e)(3) requires the apportionment of each trawl PSC limit into PSC bycatch allowances for seven specified fishery categories. Section 679.21(e)(4)(ii) authorizes the apportionment of the non-trawl halibut PSC limit into PSC bycatch allowances for five fishery categories. Table 6 lists the proposed fishery bycatch allowances for the trawl and non-trawl fisheries.

Section 679.21(e)(4)(ii) authorizes the exemption of specified non-trawl fisheries from the halibut PSC limit. As in past years, NMFS, after consultation with the Council, proposes to exempt pot gear, jig gear, and the sablefish IFQ hook-and-line gear fishery categories from halibut bycatch restrictions because (1) the pot gear fisheries have low halibut bycatch mortality, (2) halibut mortality for the jig gear fleet is assumed to be negligible although it cannot be estimated because these vessels do not carry observers, and (3) the sablefish and halibut IFQ fisheries have low halibut bycatch mortality because the IFQ program (subpart D of 50 CFR part 679) requires legal-sized halibut to be retained by vessels using hook-and-line gear if a halibut IFQ permit holder or a hired master is aboard and is holding unused halibut IFQ. In 2006, total groundfish catch for the pot gear fishery in the BSAI was approximately 19,721 mt, with an associated halibut bycatch mortality of about 5 mt. The 2006 groundfish jig gear fishery harvested about 84 mt of groundfish. Most vessels in the jig gear fleet are less than 60 ft (18.3 m) LOA and are exempt from observer coverage requirements. As a result, observer data are not available on halibut bycatch in the jig gear fishery. However, a negligible amount of halibut bycatch mortality is assumed because of the selective nature of jig gear and the likelihood that halibut caught with jig gear have a high survival rate when released.

Section 679.21(e)(5) authorizes NMFS, after consultation with the Council, to establish seasonal apportionments of PSC amounts in order to maximize the ability of the fleet to harvest the available groundfish TAC and to minimize bycatch. The factors to be considered are: (1) seasonal distribution of prohibited species, (2) seasonal distribution of target groundfish species, (3) PSC bycatch needs on a seasonal basis relevant to prohibited species biomass, (4) expected variations in bycatch rates throughout the year, (5) expected start of fishing effort, and (6) economic effects of seasonal PSC apportionments on industry sectors. The final 2006 and 2007 harvest specifications (71 FR 10894, March 3, 2006) summarized the Council and NMFS' findings with respect to each of these FMP considerations. The Council and NMFS' findings for 2007 and 2008 are unchanged from 2006. NMFS proposes the Council's recommendations listed in Table 6.

TABLE 6 - 2007 AND 2008 PROPOSED PROHIBITED SPECIES BYCATCH ALLOWANCES FOR THE BSAI TRAWL AND NON-TRAWL FISHERIES
Trawl fisheries | Prohibited species and zone: Halibut mortality (mt) BSAI | Prohibited species and zone: Herring (mt) BSAI | Prohibited species and zone: Red King Crab (animals) Zone 1¹ | Prohibited species and zone: C. opilio (animals) COBLZ¹ | Prohibited species and zone: C. bairdi (animals): Zone 1¹ | Prohibited species and zone: C. bairdi (animals): Zone 2¹
Yellowfin sole | 886 | 183 | 33,843 | 3,101,915 | 340,844 | 1,788,459
January 20 - April 1 | 262 | ....... | ....... | ....... | ....... | .......
April 1 - May 21 | 195 | ....... | ....... | ....... | ....... | .......
May 21 - July 1 | 49 | ....... | ....... | ....... | ....... | .......
July 1 - December 31 | 380 | ....... | ....... | ....... | ....... | .......
Rock sole/other flat/flathead sole²,⁶ | 779 | 27 | 121,413 | 1,082,528 | 365,320 | 596,154
January 20 - April 1 | 448 | ....... | ....... | ....... | ....... | .......
April 1 - July 1 | 164 | ....... | ....... | ....... | ....... | .......
July 1 - December 31 | 167 | ....... | ....... | ....... | ....... | .......
Turbot/arrowtooth/sablefish³ | ....... | 12 | ....... | 44,946 | ....... | .......
Rockfish | ....... | ....... | ....... | ....... | ....... | .......
July 1 - December 31 | 69 | 10 | ....... | 44,945 | ....... | 10,988
Pacific cod | 1,434 | 27 | 26,563 | 139,331 | 183,112 | 324,176
Midwater trawl pollock | ....... | 1,562 | ....... | ....... | ....... | .......
Pollock/Atka mackerel/other⁴ | 232 | 192 | 406 | 80,903 | 17,224 | 27,473
Red King Crab Savings Subarea⁶ | ....... | ....... | ....... | ....... | ....... | .......
(non-pelagic trawl) | ....... | ....... | 42,495 | ....... | ....... | .......
Total trawl PSC | 3,400 | 2,012 | 182,225 | 4,494,569 | 906,500 | 2,747,250
Non-trawl fisheries
Pacific cod - Total | 775 |  |  |  |  |
January 1 - June 10 | 320 | ....... | ....... | ....... | ....... | .......
June 10 - August 15 | 0 | ....... | ....... | ....... | ....... | .......
August 15 - December 31 | 455 | ....... | ....... | ....... | ....... | .......
Other non-trawl - Total | 58 |  |  |  |  |
May 1 - December 31 | 58 | ....... | ....... | ....... | ....... | .......
Groundfish pot and jig | exempt |  |  |  |  |
Sablefish hook-and-line | exempt |  |  |  |  |
Total non-trawl PSC | 833 |  |  |  |  |
PSQ reserve⁵ | 342 | ....... | 14,775 | 364,424 | 73,500 | 222,750
PSC grand total | 4,575 | 2,012 | 197,000 | 4,858,993 | 980,000 | 2,970,000
¹ Refer to § 679.2 for definitions of areas.
² ″Other flatfish″ for PSC monitoring includes all flatfish species, except halibut (a prohibited species), Greenland turbot, rock sole, yellowfin sole, and arrowtooth flounder.
³ Greenland turbot, arrowtooth flounder, and sablefish fishery category.
⁴ Pollock other than pelagic trawl pollock, Atka mackerel, and ″other species″ fishery category.
⁵ With the exception of herring, 7.5 percent of each PSC limit is allocated to the CDQ program as PSQ reserve. The PSQ reserve is not allocated by fishery, gear, or season.
⁶ In October 2006, the Council recommended that red king crab bycatch for trawl fisheries within the RKCSS be limited to 35 percent of the total allocation to the rock sole/flathead sole/″other flatfish″ fishery category (see § 679.21(e)(3)(ii)(B)).

Halibut Discard Mortality Rates

To monitor halibut bycatch mortality allowances and apportionments, the Regional Administrator uses observed halibut bycatch rates, discard mortality rates (DMR), and estimates of groundfish catch to project when a fishery's halibut bycatch mortality allowance or seasonal apportionment is reached. The DMRs are based on the best information available, including information contained in the annual SAFE report.

The Council recommended and NMFS proposes that the halibut DMRs developed and recommended by staff of the International Pacific Halibut Commission (IPHC) for the 2007 and 2008 BSAI groundfish fisheries be used for monitoring the 2007 and 2008 proposed halibut bycatch allowances (see Table 7). The BSAI DMRs proposed for 2007 and 2008 are revised from those used in 2006. The IPHC developed these DMRs using the 10-year mean DMRs for the BSAI non-CDQ groundfish fisheries. The IPHC will analyze observer data annually and recommend changes to the DMRs where a fishery DMR shows large variation from the mean. The IPHC has been calculating DMRs for the CDQ fisheries since 1998, and a 10-year mean is not yet available. Until 10 years of data from CDQ fishing has been collected, recommendations will be based on averaging all available data. A copy of the document justifying these DMRs is available from the Council (see ADDRESSES) and will be discussed in Appendix A of the final 2006 SAFE report to be released November 2006.

TABLE 7 - 2007 AND 2008 PROPOSED ASSUMED PACIFIC HALIBUT DISCARD MORTALITY RATES FOR THE BSAI FISHERIES
Gear | Fishery | Halibut mortality (percent)
Hook-and-line | Greenland turbot | 13
| Other species | 11
| Pacific cod | 11
| Rockfish | 17
Trawl | Atka mackerel | 76
| Flathead sole | 70
| Greenland turbot | 70
| Non-pelagic pollock | 74
| Pelagic pollock | 88
| Other flatfish | 74
| Other species | 70
| Pacific cod | 70
| Rockfish | 76
| Rock sole | 80
| Sablefish | 75
| Yellowfin sole | 80
Pot | Other species | 7
| Pacific cod | 7
CDQ trawl | Atka mackerel | 86
| Flathead sole | 70
| Non-pelagic pollock | 85
| Pelagic pollock | 90
| Rockfish | 76
| Yellowfin sole | 86
CDQ hook-and-line | Greenland turbot | 13
| Pacific cod | 10
CDQ pot | Pacific cod | 7
CDQ pot | Sablefish | 34

Amendment 68 Sideboards

Section 802 of the Consolidated Appropriations Act of 2004 (Public Law 108-199; Section 802) grants NMFS specific statutory authority to manage the Central Gulf of Alaska rockfish fisheries. The Council adopted a Central Gulf of Alaska Rockfish Pilot Program (Rockfish Program) to meet the requirements of Section 802 on June 6, 2005. The elements of the Rockfish Program are discussed in detail in the proposed and final rules to Amendment 68 to the FMP for Groundfish of the GOA (71 FR 33040, June 7, 2006 and 71 FR 67210, November 20, 2006). The Council submitted Amendment 68 to NMFS and the Secretary approved it on August 11, 2006. Based on the final rule for Amendment 68 (71 FR 67210, November 20, 2006), the final harvest specifications also will establish sideboard measures including prohibitions on catcher vessels fishing specific groundfish fisheries in the BSAI and limitations on fishing Pacific cod in the BSAI during July. The basis for the fishing prohibitions and the BSAI catcher vessel Pacific cod sideboard limit is described in detail in the final rule for Amendment 68 (71 FR 67210, November 20, 2006). The BSAI catcher vessel Pacific cod sideboard limit would be 0.0 mt, and this would effectively close directed fishing for BSAI Pacific cod in July for catcher vessels under the Rockfish Program sideboard limitations.

Listed AFA Catcher/Processor Sideboard Limits

According to § 679.64(a), the Regional Administrator will restrict the ability of listed AFA catcher/processors to engage in directed fishing for groundfish species other than pollock to protect participants in other groundfish fisheries from adverse effects resulting from the AFA and from fishery cooperatives in the directed pollock fishery. The basis for these sideboard limits is described in detail in the final rule implementing major provisions of the AFA (67 FR 79692, December 30, 2002). Table 8 lists the 2007 and 2008 proposed catcher/processor sideboard limits.

All groundfish other than pollock that are caught by listed AFA catcher/processors, whether as targeted catch or incidental catch, will be deducted from the proposed sideboard limits in Table 8. However, groundfish other than pollock that are delivered to listed catcher/processors by catcher vessels will not be deducted from the 2007 and 2008 proposed sideboard limits for the listed catcher/processors.

TABLE 8 - 2007 AND 2008 PROPOSED LISTED BSAI AMERICAN FISHERIES ACT CATCHER/PROCESSOR GROUNDFISH SIDEBOARD LIMITS
[Amounts are in metric tons]
Target species | Area | 1995 - 1997: Retained catch | 1995 - 1997: Total catch | 1995 - 1997: Ratio of retained catch to total catch | 2007 Proposed ITAC available to trawl C/Ps | 2007 Proposed C/P sideboard limit | 2008 Proposed ITAC available to trawl C/Ps | 2008 Proposed C/P sideboard limit
Pacific cod trawl | BSAI | 12,424 | 48,177 | 0.258 | 33,851 | 8,734 | 27,742 | 7,157
Sablefish trawl | BS | 8 | 497 | 0.016 | 1,097 | 18 | 952 | 15
| AI | 0 | 145 | 0.000 | 557 | 0 | 480 | 0
Atka mackerel | Western Aleutian |  |  |  |  |  |  |
| A season¹ | n/a | n/a | 0.200 | 7,132 | 1,426 | 10,404 | 2,081
| HLA limit² | n/a | n/a | n/a | 4,279 | 856 | 6,242 | 1,248
| B season¹ | n/a | n/a | 0.200 | 7,132 | 1,426 | 10,404 | 2,081
| HLA limit | n/a | n/a | n/a | 4,279 | 856 | 6,242 | 1,248
| Central Aleutian |  |  |  |  |  |  |
| A season¹ | n/a | n/a | 0.115 | 16,455 | 1,892 | 11,784 | 1,355
| HLA limit | n/a | n/a | n/a | 9,873 | 1,135 | 7,070 | 813
| B season | n/a | n/a | 0.115 | 16,455 | 1,892 | 11,784 | 1,355
| HLA limit | n/a | n/a | n/a | 9,873 | 1,135 | 7,070 | 813
Yellowfin sole | BSAI | 100,192 | 435,788 | 0.230 | 99,535 | 22,893 | 90,440 | 20,801
Rock sole | BSAI | 6,317 | 169,362 | 0.037 | 72,876 | 2,696 | 94,860 | 3,510
Greenland turbot | BS | 121 | 17,305 | 0.007 | 1,543 | 11 | 1,543 | 11
| AI | 23 | 4,987 | 0.005 | 693 | 3 | 693 | 3
Arrowtooth flounder | BSAI | 76 | 33,987 | 0.002 | 17,000 | 34 | 123,080 | 246
Flathead sole | BSAI | 1,925 | 52,755 | 0.036 | 18,700 | 673 | 44,370 | 1,597
Alaska plaice | BSAI | 14 | 9,438 | 0.001 | 27,200 | 27 | 110,191 | 110
Other flatfish | BSAI | 3,058 | 52,298 | 0.058 | 4,250 | 247 | 15,385 | 892
Pacific ocean perch | BS | 12 | 4,879 | 0.002 | 2,567 | 5 | 2,567 | 5
| Western Aleutian | 54 | 13,598 | 0.004 | 4,659 | 19 | 4,659 | 19
| Central Aleutian | 3 | 5,698 | 0.001 | 2,785 | 3 | 2,785 | 3
| Eastern Aleutian | 125 | 6,179 | 0.020 | 2,824 | 56 | 2,824 | 56
Northern rockfish | BSAI | 91 | 13,040 | 0.007 | 4,250 | 30 | 4,250 | 30
Shortraker rockfish | BSAI | 50 | 2,811 | 0.018 | 493 | 9 | 493 | 9
Rougheye rockfish | BSAI | 50 | 2,811 | 0.018 | 190 | 3 | 190 | 3
Other rockfish | BS | 18 | 621 | 0.029 | 689 | 20 | 689 | 20
| AI | 22 | 806 | 0.027 | 502 | 14 | 502 | 14
Squid | BSAI | 73 | 3,328 | 0.022 | 1,084 | 24 | 1,675 | 37
Other species | BSAI | 553 | 68,672 | 0.008 | 34,765 | 278 | 29,750 | 238
¹ The seasonal apportionment of Atka mackerel in the open access fishery is 50 percent in the A season and 50 percent in the B season. Listed AFA catcher/processors are limited to harvesting no more than zero in the Eastern Aleutian District and Bering Sea subarea, 20 percent of the annual TAC specified for the Western Aleutian District, and 11.5 percent of the annual TAC specified for the Central Aleutian District.
² Harvest Limit Area (HLA) limit refers to the amount of each seasonal allowance that is available for fishing inside the HLA (see § 679.2). In 2007 and 2008, 60 percent of each seasonal allowance is available for fishing inside the HLA in the Western and Central Aleutian Districts.

Section 679.64(a)(5) establishes a formula for PSC sideboard limits for listed AFA catcher/processors. The basis for these sideboard limits is described in detail in the final rule implementing major provisions of the AFA (67 FR 79692, December 30, 2002).

PSC species listed in Table 9 that are caught by listed AFA catcher/processors participating in any groundfish fishery other than pollock will accrue against the 2007 and 2008 proposed PSC sideboard limits for the listed AFA catcher/processors. Section 679.21(e)(3)(v) authorizes NMFS to close directed fishing for groundfish other than pollock for listed AFA catcher/processors once a 2006 or 2007 proposed PSC sideboard limit listed in Table 9 is reached.

Crab or halibut PSC caught by listed AFA catcher/processors while fishing for pollock will accrue against the bycatch allowances annually specified for either the midwater pollock or the pollock/Atka mackerel/“other species” fishery categories according to regulations at § 679.21(e)(3)(iv).

Table 9- 2007 and 2008 Proposed BSAI American Fisheries Act Listed catcher/Processor Prohibited Species Sideboard Limits¹
PSC Species | 1995 - 1997: PSC | 1995 - 1997: Total PSC | 1995 - 1997: Ratio of PSC to total PSC | 2007 and 2008 Proposed PSC available to trawl vessels | 2007 and 2008 Proposed C/P sideboard limit
Halibut mortality | 995 | 11,325 | 0.084 | 3,400 | 286
Red king crab | 3,098 | 473,750 | 0.007 | 182,225 | 1,276
C. opilio | 2,323,731 | 15,139,178 | 0.153 | 4,494,569 | 687,669
C. bairdi |  |  |  |  |
Zone 1² | 385,978 | 2,750,000 | 0.140 | 906,500 | 126,910
Zone 2² | 406,860 | 8,100,000 | 0.050 | 2,747,2250 | 137,363
¹Halibut mortality amounts are in metric tons. Crab amounts are in numbers of animals.
²Refer to § 679.2 for definitions of areas.

AFA Catcher Vessel Sideboard Limits

Pursuant to § 679.64(b), the Regional Administrator restricts the ability of AFA catcher vessels to engage in directed fishing for groundfish species other than pollock to protect participants in other groundfish fisheries from adverse effects resulting from the AFA and from fishery cooperatives in the directed pollock fishery. Section 679.64(b) establishes formulas for setting AFA catcher vessel groundfish and PSC sideboard limits for the BSAI. The basis for these sideboard limits is described in detail in the final rule implementing major provisions of the AFA (67 FR 79692, December 30, 2002). Tables 10 and 11 list the 2007 and 2008 proposed catcher vessel sideboard limits.

All catch of groundfish sideboard species made by non-exempt AFA catcher vessels, whether as targeted catch or as incidental catch, will be deducted from the 2007 and 2008 proposed sideboard limits listed in Table 10.

TABLE 10 - 2007 AND 2008 PROPOSED BSAI AMERICAN FISHERIES ACT CATCHER VESSEL SIDEBOARD LIMITS
[Amounts are in metric tons]
Species | Fishery by area/season/ processor/gear | Ratio of 1995-1997 AFA CV catch to 1995-1997 TAC | 2007 Proposed initial TAC | 2007 Proposed catcher vessel sideboard limits | 2008 Proposed initial TAC | 2008 Proposed catcher vessel sideboard limits
Pacific cod | BSAI |  |  |  |  |
| Jig gear | 0.0000 | 2,881 | 0 | 2,361 | 0
| Hook-and-line CV |  |  |  |  |
| Jan 1 - Jun 10 | 0.0006 | 131 | 0 | 107 | 0
| Jun 10 - Dec 31 | 0.0006 | 88 | 0 | 72 | 0
| Pot gear CV |  |  |  |  |
| Jan 1 - Jun 10 | 0.0006 | 6,567 | 4 | 5,373 | 3
| Sept 1 - Dec 31 | 0.0006 | 4,377 | 3 | 3,582 | 2
| CV < 60 feet LOA | 0.0006 | 1,021 | 1 | 836 | 1
| using hook-and-line or pot gear |  |  |  |  |
| Trawl gear CV |  |  |  |  |
| Jan 20 - Apr 1 | 0.8609 | 23,695 | 20,399 | 19,419 | 16,718
| Apr 1 - Jun 1 | 0.8609 | 3,385 | 2,914 | 2,774 | 2,388
| Jun 10 - Nov 1 | 0.8609 | 6,771 | 5,829 | 5,549 | 4,777
Sablefish | BS trawl gear | 0.0906 | 1,097 | 99 | 952 | 86
| AI trawl gear | 0.0645 | 557 | 36 | 480 | 31
Atka mackerel | Eastern Aleutian/BS |  |  |  |  |
| Jig gear | 0.0031 | 64 | 0 | 110 | 0
| Other gear |  |  |  |  |
| Jan 1 - Apr 15 | 0.0032 | 3,156 | 10 | 5,424 | 17
| Sept 1 - Nov 1 | 0.0032 | 3,156 | 10 | 5,424 | 17
| Central Aleutian |  |  |  |  |
| Jan 1 - Apr 15 | 0.0001 | 16,455 | 2 | 11,784 | 1
| HLA limit | 0.0001 | 9,873 | 1 | 7,071 | 1
| Sept 1 - Nov 1 | 0.0001 | 16,455 | 2 | 11,784 | 1
| HLA limit | 0.0001 | 9,873 | 1 | 7,071 | 1
| Western Aleutian |  |  |  |  |
| Jan 1 - Apr 15 | 0.0000 | 7,132 | 0 | 10,404 | 0
| HLA limit | n/a | 4,279 | 0 | 6,243 | 0
| Sept 1 - Nov 1 | 0.0000 | 7,132 | 0 | 10,404 | 0
| HLA limit | n/a | 4,279 | 0 | 6,243 | 0
Yellowfin sole | BSAI | 0.0647 | 99,535 | 6,440 | 90,440 | 5,851
Rock sole | BSAI | 0.0341 | 72,876 | 2,485 | 94,860 | 3,235
Greenland Turbot | BS | 0.0645 | 1,543 | 100 | 1,543 | 100
| AI | 0.0205 | 693 | 14 | 693 | 14
Arrowtooth flounder | BSAI | 0.0690 | 17,000 | 1,173 | 123,080 | 8,493
Alaska plaice | BSAI | 0.0441 | 27,200 | 1,200 | 110,191 | 4,859
Other flatfish | BSAI | 0.0441 | 4,250 | 187 | 15,385 | 678
Pacific ocean perch | BS | 0.1000 | 2,567 | 257 | 2,567 | 257
| Eastern Aleutian | 0.0077 | 2,824 | 22 | 2,824 | 22
| Central Aleutian | 0.0025 | 2,785 | 7 | 2,785 | 7
| Western Aleutian | 0.0000 | 4,659 | 0 | 4,659 | 0
Northern rockfish | BSAI | 0.0084 | 4,250 | 36 | 4,250 | 36
Shortraker rockfish | BSAI | 0.0037 | 493 | 2 | 493 | 2
Rougheye rockfish | BSAI | 0.0037 | 190 | 1 | 190 | 1
Other rockfish | BS | 0.0048 | 689 | 3 | 689 | 3
| AI | 0.0095 | 502 | 5 | 502 | 5
Squid | BSAI | 0.3827 | 1,084 | 415 | 1,675 | 641
Other species | BSAI | 0.0541 | 34,765 | 1,881 | 29,750 | 1,609
Flathead Sole | BS trawl gear | 0.0505 | 17,000 | 859 | 43,010 | 2,172

Halibut and crab PSC listed in Table 11 that are caught by AFA catcher vessels participating in any groundfish fishery other than pollock will accrue against the 2007 and 2008 proposed PSC sideboard limits for the AFA catcher vessels. Sections 679.21(d)(8) and (e)(3)(v) provide authority to close directed fishing for groundfish other than pollock for AFA catcher vessels once a 2007 and 2008 proposed PSC sideboard limit listed in Table 11 is reached. The PSC caught by AFA catcher vessels while fishing for pollock in the BSAI will accrue against the bycatch allowances annually specified for either the midwater pollock or the pollock/Atka mackerel/“other species” fishery categories under regulations at § 679.21(e)(3)(iv).

TABLE 11 - 2007 AND 2008 PROPOSED BSAI AMERICAN FISHERIES ACT CATCHER VESSEL PROHIBITED SPECIES CATCH SIDEBOARD LIMITS¹
PSC species | Target fishery category² | Ratio of 1995-1997 AFA catcher vessel groundfish retained catch to total retained catch | 2007 and 2008 Proposed PSC limit | 2007 and 2008 Proposed AFA catcher vessel PSC sideboard limit
Halibut | Pacific cod trawl | 0.6183 | 1,434 | 887
| Pacific cod hook-and-line or pot | 0.0022 | 775 | 2
| Yellowfin sole |  |  |
| January 20-April 1 | 0.1144 | 262 | 30
| April 1-May 21 | 0.1144 | 195 | 22
| May 21-July 5 | 0.1144 | 49 | 6
| July 5-December 31 | 0.1144 | 380 | 43
| Rock sole/flathead sole/other flatfish⁵ |  |  |
| January 20-April 1 | 0.2841 | 448 | 127
| April 1-July 5 | 0.2841 | 164 | 47
| July 5-December 31 | 0.2841 | 167 | 47
| Turbot/Arrowtooth/Sablefish | 0.2327 | 0 | 0
| Rockfish (July 1 - December 31) | 0.0245 | 69 | 2
| Pollock/Atka mackerel/other species | 0.0227 | 232 | 5
Red King Crab | Pacific cod | 0.6183 | 26,563 | 16,424
Zone 1⁴ | Yellowfin sole | 0.1144 | 33,843 | 3,872
| Rock sole/flathead sole/other flatfish⁵ | 0.2841 | 121,413 | 34,493
| Pollock/Atka mackerel/other species | 0.0227 | 406 | 9
C. opilio | Pacific cod | 0.6183 | 139,331 | 86,148
COBLZ³ | Yellowfin sole | 0.1144 | 3,101,915 | 354,859
| Rock sole/flathead sole/other flatfish⁵ | 0.2841 | 1,082,528 | 307,546
| Pollock/Atka mackerel/other species | 0.0227 | 80,903 | 1,836
| Rockfish | 0.0245 | 44,945 | 1,101
| Turbot/Arrowtooth/Sablefishs | 0.2327 | 44,946 | 10,459
C. bairdi | Pacific cod | 0.6183 | 183,112 | 113,218
Zone 1³ | Yellowfin sole | 0.1144 | 340,844 | 38,993
| Rock sole/flathead sole/other flatfish⁵ | 0.2841 | 365,320 | 103,787
| Pollock/Atka mackerel/other species | 0.0227 | 17,224 | 391
C. bairdi | Pacific cod | 0.6183 | 324,176 | 200,438
Zone 2³ | Yellowfin sole | 0.1144 | 1,788,459 | 204,600
| Rock sole/flathead sole/other flatfish⁵ | 0.2841 | 596,154 | 169,367
| Pollock/Atka mackerel/other species | 0.0227 | 27,473 | 624
| Rockfish | 0.0245 | 10,988 | 269
¹ Halibut mortality amounts are in metric tons. Crab amounts are in numbers of animals.
² Target fishery categories are defined in regulation at § 679.21(e)(3)(iv).
³ Refer to § 679.2 for definitions of areas.
⁴ In October 2006, the Council recommended that red king crab bycatch for trawl fisheries within the RKCSS be limited to 35 percent of the total allocation to the rock sole/flathead sole/″other flatfish″ fishery category (see § 679.21(e)(3)(ii)(B)).
⁵ ″Other flatfish″ for PSC monitoring includes all flatfish species, except for halibut (a prohibited species), Greenland turbot, rock sole, yellowfin sole, and arrowtooth flounder.

Classification

NMFS has determined that the proposed specifications are consistent with the FMP and preliminarily determined that the proposed specifications are consistent with the MSA and other applicable laws.

NMFS prepared a DEIS for this action; a notice of availability was published on September 8, 2006 (71 FR 53093). The public comment period closed on October 23, 2006. The DEIS analyzes the environmental consequences of the proposed action and its alternatives on resources in the action area. The DEIS found no significant environmental consequences from the proposed action or its alternatives, however, some impacts were unknown.

This action is authorized under 50 CFR 679.20 and is exempt from review under Executive Order 12866.

An initial regulatory flexibility analysis (IRFA) was prepared, as required by section 603 of the Regulatory Flexibility Act. The IRFA describes the economic impact this proposed rule, if adopted, would have on small entities. A description of the action, why it is being considered, and the legal basis for this action are contained at the beginning of this section in the preamble and in the SUMMARY section of the preamble. A summary of the analysis follows. A copy of this analysis is available from NMFS (see ADDRESSES).

The action under consideration is a harvest strategy to govern the catch of groundfish in the BSAI. The preferred alternative is the status quo harvest strategy in which TACs fall within the range of ABCs recommended by the Council's Groundfish Plan Teams, and TACs recommended by the Council. This action is taken in accordance with the FMP prepared by the Council pursuant to the MSA.

The entities directly regulated by this action are those that harvest groundfish in the EEZ of the BSAI, and in parallel fisheries within State of Alaska waters. These include entities operating catcher vessels and catcher-processor vessels within the action area, and entities receiving direct allocations of groundfish. Catcher vessels and catcher processors were considered to be small entities if they had annual gross receipts, from all of their economic activities, and including the revenue of their affiliated operations, less than or equal to $4 million per year. Data from 2004 was used because it was the most recent available. CDQ groups receive direct allocations of groundfish, and these were considered to be small entities because they are non-profit entities. The Aleut Corporation is not a small entity because it is a holding company which does not meet the SBA $6 million threshold for holding companies (13 CFR 121.201).

The directly regulated small entities include approximately 810 small catcher vessels, fewer than 20 small catcher/processors, and six CDQ groups. Estimates of first wholesale gross revenues for the BSAI non-CDQ and CDQ sectors were used as indices of the potential impacts of the alternative harvest strategies on small entities. Revenues were projected to decline from 2006 levels in 2007 and 2008 under the preferred alternative due to declines in ABCs for economically key groundfish species.

The new provisions in the MSA governing the CDQ Program may reduce the amount of sablefish available as incidental catch by CDQ trawl vessels and directed or incidental catch by CDQ fixed gear vessels. The amounts of sablefish involved are expected to be relatively small, and may be under one percent of the annual first wholesale value of CDQ production.

The preferred alternative (Alternative 2) was compared to four other alternatives. These included Alternative 1, which would set TACs to generate fishing rates equal to the maximum permissible ABC (if the full TAC were harvested), unless the sum of TACs would exceed the BSAI OY, in which case TACs would be limited to the OY. Alternative 3 would set TACs to produce fishing rates equal to the most recent five-year average fishing rates. Alternative 4 would set TACs to equal the lower bound of the BSAI OY range. Alternative 5 would set TACs equal to zero. Alternative 5 is the “no action” alternative.

Alternatives 3, 4, and 5 were all associated with smaller levels for important fishery TACs than the preferred alternative. Estimated total first wholesale gross revenues were used as an index of potential adverse impacts to small entities. As a consequence of the lower TAC levels, Alternatives 3, 4 and 5 all had smaller values of these first wholesale revenue indices for both non-CDQ and CDQ sectors than Alternative 2. Thus, Alternatives 3, 4 and 5 had greater adverse impacts on small entities. Alternative 1 could have higher TAC levels than Alternative 2, if the sum of the Alternative 2 TACs were less than the BSAI optimum yield (OY) level. However, Alternative 2 is expected to be associated with TACs that are equal to the statutory OY. Therefore, Alternative 1 and Alternative 2 TACs are assumed to be equal to each other, and Alternative 1 is not expected to have greater net benefits than Alternative 2 in this instance.

This action does not modify recordkeeping or reporting requirements, or duplicate, overlap, or conflict with any Federal rules.

Adverse impacts on marine mammals resulting from fishing activities conducted under these harvest specifications are discussed in the DEIS (see ADDRESSES).

Authority: 16 U.S.C. 773 et seq.; 1540(f); 1801 et seq.; 1851 note; and 3631 et seq.

Dated: December 5, 2006.
William T. Hogarth,
Assistant Administrator for Fisheries, National Marine Fisheries Service.

[FR Doc. E6-21447 Filed 12-14-06; 8:45 am]

BILLING CODE 3510-22-S